OFFICE OF PERSONNEL MANAGEMENT

5 CFR Part 532

RIN 3206-AM28

Prevailing Rate Systems; Redefinition of the Shreveport, LA; Texarkana, TX; Milwaukee, WI; and Southwestern Wisconsin Appropriated Fund Federal Wage System Wage Areas

AGENCY: U.S. Office of Personnel Management.

ACTION: Final rule.

SUMMARY: The U.S. Office of Personnel Management is issuing a final rule to redefine the geographic boundaries of the Shreveport, LA; Texarkana, TX; Milwaukee, WI; and Southwestern Wisconsin appropriated fund Federal Wage System (FWS) wage areas. The final rule redefines Upshur County, TX, from the Texarkana wage area to the Shreveport wage area and Oconto County, WI, from the Southwestern Wisconsin wage area to the Milwaukee wage area. These changes are based on recent consensus recommendations of the Federal Prevailing Rate Advisory Committee to best match the counties proposed for redefinition to a nearby FWS survey area.

DATES: This regulation is effective on March 24, 2011.

FOR FURTHER INFORMATION CONTACT: Madeline Gonzalez, (202) 606-2838; e-mail pay-performance-policy@opm.gov; or FAX: (202) 606-4264.

SUPPLEMENTARY INFORMATION: On September 24, 2010, the U.S. Office of Personnel Management (OPM) issued a proposed rule (75 FR 58339) to redefine Upshur County, TX, from the Texarkana, TX, wage area to the Shreveport, LA, wage area and Oconto County, WI, from the Southwestern Wisconsin wage area to the Milwaukee, WI, wage area. These changes are based on recent consensus recommendations of the Federal Prevailing Rate Advisory Committee to best match the above counties to a nearby FWS survey area. The proposed rule had a 30-day comment period during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Shreveport, LA; Texarkana, TX; Milwaukee, WI; and Southwestern Wisconsin wage areas to read as follows:

Appendix C to Subpart B of Part 532—Appropriated Fund Wage and Survey Areas

* * * * *

LOUISIANA

* * * * *

Shreveport

Survey Area

Louisiana: (parishes)

Bossier

Caddo

Webster

Area of Application. Survey area plus:

Louisiana: (parishes)

Bienville

Claiborne

De Soto

East Carroll

Jackson

Lincoln

Morehouse

Ouachita

Red River

Richland

Union

West Carroll

Texas:

Cherokee

Gregg

Harrison

Panola

Rusk

Upshur

* * * * *

TEXAS

* * * * *

Texarkana

Survey Area

Texas:

Bowie

Arkansas:

Little River

Miller

Area of Application. Survey area plus:

Texas:

Camp

Cass

Franklin

Marion

Morris

Red River

Titus

Arkansas:

Columbia

Hempstead

Howard

Lafayette

Nevada

Sevier

* * * * *

WISCONSIN

* * * * *

Milwaukee

Survey Area

Wisconsin:

Milwaukee

Ozaukee

Washington

Waukesha

Area of Application. Survey area plus:

Wisconsin:

Brown

Calumet

Door

Fond du Lac

Kewaunee

Manitowoc

Oconto

Outagamie

Racine

Sheboygan

Walworth

Winnebago

Southwestern Wisconsin

Survey Area

Wisconsin:

Chippewa

Eau Claire

La Crosse

Monroe

Trempealeau

Area of Application. Survey area plus:

Wisconsin:

Adams

Barron

Buffalo

Clark

Crawford

Dunn

Florence

Forest

Jackson

Juneau

Langlade

Lincoln

Marathon

Marinette

Menominee

Oneida

Pepin

Portage

Price

Richland

Rusk

Shawano

Taylor

Vernon

Vilas

Waupaca

Waushara

Wood

Minnesota:

Fillmore

Houston

Wabasha

Winona

* * * * *

[FR Doc. 2011-3773 Filed 2-18-11; 8:45 am]

BILLING CODE 6325-39-P